DEPARTMENT OF DEFENSE

Department of the Navy

Public Hearings for the Draft Environmental Impact Statement/Overseas Environmental Impact Statement (DEIS/OEIS) for the Naval Air Warfare Center Weapons Division (NAWCWPNS) Point Mugu Sea Range

AGENCY: Department of the Navy, DOD.

ACTION: Notice.

SUMMARY: The Department of the Navy (Navy) has prepared and filed with the U.S. Environmental Protection Agency (EPA) the DEIS/OEIS for the NAWCWPNS Point Mugu Sea Range. Public hearings will be held to provide information and receive oral and written comments on the DEIS/OEIS. Federal, state, local agencies, and interested individuals are invited to be present or represented at the hearings.

DATES: Public hearings will be held on August 14-16, 2000 from 6:00 p.m.-9:00 p.m. and August 21-22, 2000 from 6:00 p.m.-9:00 p.m.

ADDRESSES: August 14, 2000—Oxnard, California, Ventura Room, Oxnard performing Arts & Community Center, 800 Hobson Way; August 15, 2000—Camarillo, California, Orchid Room, 816 Camarillo Springs Road; August 16, 2000—Ventura, California, Holiday Inn, 450 East Harbor Boulevard; August 21, 2000—Santa Barbara, California, Fess Parker Doubletree Hotel, 633 East Cabrillo Boulevard; and August 22, 2000—Santa Monica, California, Community Room, Santa Monica Place (shopping mall), 395 Santa Monica Place.

FOR FURTHER INFORMATION CONTACT: Ms. Gina Smith, Naval Air Warfare Center Weapons Division, Facsimile (805) 989-0143. Additional information concerning this notice, including hearing dates and locations, may be obtained by calling toll-free (888) 217-9045 or by accessing the Point Mugu Sea Range EIS/OEIS Home Page at the following web address: http://www.nawcwpns.navy.mil/~pmeis.

SUPPLEMENTARY INFORMATION: The Navy has prepared and filed with the EPA the DEIS/OEIS for the NAWCWPNS Point Mugu Sea Range in accordance with the requirements of the National Environmental Policy Act of 1969 (42 USC Sections 4321-4345) and its implementing regulations (40 CFR Parts 1500 to 1508). The DEIS/OEIS also was prepared in accordance with the Executive Order 12114 (Environmental Effects Abroad of Major Federal Actions).

A Notice of Intent for this EIS was published in the Federal Register on July 25, 1997 (62 FR 40061). Five public scoping meetings were held in Oxnard, California; Camarillo, California; Ventura, California; Santa Monica, California; and Santa Barbara, California, between August 21 and August 27, 1997.

The NAWCWPNS Point Mugu Sea Range currently supports test and evaluation of sea, land, and air weapons systems, fleet training exercises, small-scale amphibious warfare training, and special warfare training. The proposed action is to continue these test and training activities on the Sea Range. The proposed action would also accommodate Theater Missile Defense (TMD) test and training, an increase in the current level of both Fleet training exercises and special warfare training, and facilities modernization at NAS Point Mugu and San Nicolas Island. The TMD test and training would include four distinct types of events: (a) Boost phase intercept (up to three events per year), (b) upper tier (up to three events per year); (c) lower tier (up to three events per year); and (d) nearshore intercept events at San Nicolas Island (up to eight events per year). One additional Fleet training exercise per year would be accommodated at the Sea Range as well as two additional special warfare exercises per year. The facilities modernization at NAS Point Mugu would involve the use of two existing launch pads to serve as new launch locations. At San Nicolas Island, a missile launcher, a vertical launcher, a new range support building, and five multiple-purpose instrumentation sites would be constructed.

The DEIS/OEIS addresses the potential effects of the proposed action on geology and soils, air quality, noise, water quality, fish and sea turtles, marine mammals, terrestrial biology, cultural resources, land use, socioeconomics, hazardous and nonhazardous materials, and public safety.

Alternatives developed and analyzed in the DEIS/OEIS include: the Preferred Alternative as described above; the No Action Alternative, in which current test and training operations would continue but increased testing and training on the Sea Range and associated facilities modernization at NAS Point Mugu and San Nicolas Island would not be accommodated; and the Minimum Components Alternative. The Minimum Components Alternative would continue current test and training operations and accommodate eight TMD nearshore intercept events, one additional fleet training exercise per year, and construction of five multiple-purpose instrumentation sites on San Nicolas Island. The proposed action is the preferred alternative because it best meets the project's purpose and need.

The DEIS has been distributed to various Federal, state, local agencies, elected officials, special interest groups, and public libraries. Complete copies of the document are available for public review at the following eight information repositories:

Oxnard Public Library, Reference Desk, 251 South “A” Street, Oxnard, California

NAS Point Mugu Library, Code 836300E, Building No. 3-10, North Mugu Road, Point Mugu, California

Ray D. Prueter Library, 510 Park Avenue, Port Hueneme, California

Camarillo Public Library, 3100 Ponderosa Drive, Camarillo, California

E.P. Foster Library, 651 E. Main Street, Ventura, California

Malibu Library, 23519 West Civic Center Way, Malibu, California

Santa Barbara Public Library, 40 East Anapamu Street, Santa Barbara, California

Santa Monica Public Library, Reference Section, 1343 6th Street, Santa Monica, California

The Executive Summary of the DEIS/OEIS may be viewed on the Point Mugu Sea Range EIS/OEIS Home Page at the following web address: http://www.nawcwpns.navy.mil/~pmeis.

The Navy will conduct five public hearings to receive oral and written comments concerning the DEIS/OEIS. At each hearing location, information poster stations will be available from 6:00 p.m. to 7:00 p.m., followed by the official hearing beginning at 7:00 p.m. and ending at 9:00 p.m. Navy representatives will be available at the hearings to receive information and comments from agencies and the public regarding issues of concern. Federal, state, local agencies, and interested parties are invited and urged to be present or represented at the hearing. Oral statements will be heard and transcribed by a stenographer.

To assure accuracy of the record, all statements should be submitted in writing. All statements, both oral and written, will become part of the public record for the DEIS/OEIS. Equal weight will be given to both oral and written comments. In the interest of available time, each speaker will be asked to limit oral comments to four minutes. Each individual may speak only once, and combining speaking times will not be permitted. Longer comments should be summarized at the public hearings and submitted in writing either at the hearings or mailed to Naval Air Warfare Center Weapons Division, Point Mugu Sea Range EIS, 521 9th Street, Point Mugu, CA 93042-5001 (Attn: Ms. Gina Smith, Code 8G0000E, facsimile (805) 989-0143). Written comments are requested not later than September 11, 2000.

Dated: July 26, 2000.
J.L. Roth,
Lieutenant Commander, Judge Advocate General's Corps, U.S. Navy, Federal Register Liaison Officer.

[FR Doc. 00-19282 Filed 7-28-00; 8:45 am]

BILLING CODE 3810-FF-U